DEPARTMENT OF DEFENSE

GENERAL SERVICES ADMINISTRATION

NATIONAL AERONAUTICS AND SPACE ADMINISTRATION

48 CFR Parts 15, 22, 28, and 52

[FAC 2005-14; Item V; Docket FAR-2006-0021; Sequence 5]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: November 22, 2006

FOR FURTHER INFORMATION CONTACT: The FAR Secretariat, Room 4035, GS Building, Washington, DC, 20405, (202) 501-4755, for information pertaining to status or publication schedules. Please cite FAC 2005-14, Technical Amendments.

List of Subjects in 48 CFR Parts 15, 22, 28, and 52

Government procurement.

Dated: November 15, 2006.
Ralph De Stefano,
Director, Contract Policy Division.

Therefore, DoD, GSA, and NASA amend 48 CFR parts 15, 22, 28, and 52 as set forth below:

1. The authority citation for 48 CFR parts 15, 22, 28, and 52 continues to read as follows:

Authority: 40 U.S.C. 121(c); 10 U.S.C. chapter 137; and 42 U.S.C. 2473(c).

PART 15—CONTRACTING BY NEGOTIATION

2. Amend section 15.404-1(a)(7) by revising the last sentence to read as follows:

15.404-1 Proposal analysis techniques.

(a) * * *

(7) * * * They are available via the internet at http://www.acq.osd.mil/dpap/contractpricing/index.htm.

PART 22—APPLICATION OF LABOR LAWS TO GOVERNMENT ACQUISITIONS

22.1006 [Amended]

3. Amend section 22.1006 in the fourth sentence of paragraph (c)(1) by removing “(c)(1)” and adding “(d)(1)” in its place.

4. Amend section 22.1304 by revising paragraph (a) to read as follows:

22.1304 Procedures.

(a) Query the Department of Labor's VETS-100 Database via the Internet at http://www.vets100.com/Vets100Search.htm using the validation code “vets” to proceed with the search in the database; or

PART 28—BONDS AND INSURANCE

5. Amend section 28.202 by revising paragraph (d) to read as follows:

28.202 Acceptability of corporate sureties.

(d) The Department of the Treasury Circular 570 may be obtained from the U.S. Department of the Treasury, Financial Management Service, Surety Bond Branch, 3700 East West Highway, Room 6F01, Hyattsville, MD 20782. Or via the internet at http://www.fms.treas.gov/c570/.

PART 52—SOLICITATION PROVISIONS AND CONTRACT CLAUSES

52.212-5 [Amended]

6. Amend section 52.212-5 by revising the date of the clause to read “(NOV 2006)”; removing from paragraph (b)(1) “(JUL 1995)” and adding “(SEP 2006)” in its place, and removing “(SEP 2006)” and adding “(OCT 1995)” in its place; and removing from paragraph (c)(3) “(MAY 1989)” and adding “(NOV 2006)” in its place.

52.222-43 [Amended]

7. Amend section 52.222-43 by revising the date of the clause to read “(NOV 2006)”; and removing from paragraph (e) “(c)” and adding “(d)” in its place.

8. Amend section 52.228-15 by revising the date of the clause and paragraph (d) to read as follows:

52.228-15 Performance and Payment Bonds—Construction.

PERFORMANCE AND PAYMENT BONDS—CONSTRUCTION (NOV 2006)

(d) Surety or other security for bonds. The bonds shall be in the form of firm commitment, supported by corporate sureties whose names appear on the list contained in Treasury Department Circular 570, individual sureties, or by other acceptable security such as postal money order, certified check, cashier's check, irrevocable letter of credit, or, in accordance with Treasury Department regulations, certain bonds or notes of the United States. Treasury Circular 570 is published in the Federal Register or may be obtained from the U.S. Department of the Treasury, Financial Management Service, Surety Bond Branch, 3700 East West Highway, Room 6F01, Hyattsville, MD 20782. Or via the internet at http://www.fms.treas.gov/c570/.

9. Amend section 52.228-16 by revising the date of the clause and paragraph (e) to read as follows:

52.228-16 Performance and Payment Bonds—Other Than Construction.

PERFORMANCE AND PAYMENT BONDS—OTHER THAN CONSTRUCTION (NOV 2006)

(e) The bonds shall be in the form of firm commitment, supported by corporate sureties whose names appear on the list contained in Treasury Department Circular 570, individual sureties, or by other acceptable security such as postal money order, certified check, cashier's check, irrevocable letter of credit, or, in accordance with Treasury Department regulations, certain bonds or notes of the United States. Treasury Circular 570 is published in the Federal Register, or may be obtained from the U.S. Department of the Treasury, Financial Management Service, Surety Bond Branch, 3700 East West Highway, Room 6F01, Hyattsville, MD 20782. Or via the internet at http://www.fms.treas.gov/c570/.

(End of clause)

[FR Doc. 06-9303 Filed 11-21-06; 8:45 am]

BILLING CODE 6820-EP-S